INTERNATIONAL TRADE COMMISSION

[Investigation No. 337-TA-851]

Certain Integrated Circuit Packages Provided with Multiple Heat-Conducting Paths and Products Containing Same; Commission Determination Not To Review an Initial Determination Granting Complainants' Motion for Termination of the Investigation Based on Withdrawal of Complaint

AGENCY: U.S. International Trade Commission.

ACTION: Notice.

SUMMARY: Notice is hereby given that the U.S. International Trade Commission has determined not to review an initial determination (“ID”) (Order No. 5) of the presiding administrative law judge (“ALJ”) granting complainant's motion for termination of the investigation based on withdrawal of the complaint.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 5, 2012, based on a complaint filed by Industrial Technology Research Institute of Hsinchu, Taiwan, and ITRI International of San Jose, California (collectively, “ITRI”). 77 FR 39735 (Jul. 5, 2012). The complaint, as amended, alleges violations of section 337 of the Tariff Act of 1930 (19 U.S.C. 1337) in the importation into the United States, the sale for importation, and the sale within the United States after importation of certain integrated circuit packages provided with multiple heat-conducting paths and products containing same by reason of infringement of certain claims of U.S. Patent No. 5,710,459. The complaint, as amended, names LG Electronics, Inc. of Seoul, Republic of Korea, and LG Electronics, U.S.A. of Englewood Cliffs, New Jersey (collectively, “LG”) as respondents.

Complainants ITRI moved to terminate the investigation in its entirety based on withdrawal of the complaint. Respondents LG did not oppose the motion. On November 8, 2012, the ALJ issued an ID (Order No. 5) granting the motion. No party petitioned for review of the ID, and the Commission has determined not to review it.

The authority for the Commission's determination is contained in section 337 of the Tariff Act of 1930, as amended, 19 U.S.C. 1337, and in sections 210.21 and 210.42(h) of the Commission's Rules of Practice and Procedure, 19 CFR 210.21, 210.42(h).

By order of the Commission.
Issued: December 6, 2012.
Lisa R. Barton,
Acting Secretary to the Commission.

[FR Doc. 2012-29957 Filed 12-11-12; 8:45 am]

BILLING CODE 7020-02-P